DEPARTMENT OF TRANSPORTATION

Surface Transportation Board

[STB Finance Docket No. 35350]

Drake Cement, LLC—Acquisition Exemption—Clarkdale Arizona Central Railroad, LLC

Drake Cement, LLC (DC), a noncarrier, has filed a verified notice of exemption under 49 CFR 1150.31 for DC to acquire from Clarkdale Arizona Central Railroad, LLC, approximately 4.12 miles of rail lines, located near Drake, Yavapai County, AZ, as follows: (1) A railroad yard consisting of six tracks (Tracks A-F) totaling approximately 3.46 miles (the Yard); and (2) two tracks (Track G and H) that extend approximately 0.66-miles, between Track C in the Yard and facilities to be owned and operated by DC.¹

¹ Drake Switching Company, LLC filed a verified notice of exemption to operate these tracks in STB Finance Docket No. 35351, Drake Switching Company, LLC —Operation Exemption— Drake Cement, LLC.

DC certifies that the projected annual revenues as a result of the proposed transaction will not exceed those that would qualify it as a Class III carrier.

DC states that it expects the transaction to be consummated no earlier than 30 days after the filing of the notice. The earliest this transaction may be consummated is March 4, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Stay petitions must be filed no later than February 25, 2010 (at least 7 days before the exemption becomes effective).

An original and 10 copies of all pleadings, referring to STB Finance Docket No. 35350, must be filed with the Surface Transportation Board, 395 E Street, SW., Washington, DC 20423-0001. In addition, a copy of each pleading must be served on Thomas F. McFarland, Thomas F. McFarland, P.C., 208 South LaSalle Street, #1890, Chicago, IL 60604-1112.

Board decisions and notices are available on our Web site at http://www.stb.dot.gov.

Decided: February 12, 2010.
By the Board, Rachel D. Campbell, Director, Office of Proceedings.
Andrea Pope-Matheson,
Clearance Clerk.

[FR Doc. 2010-3060 Filed 2-17-10; 8:45 am]

BILLING CODE 4915-01-P